BUREAU OF CONSUMER FINANCIAL PROTECTION

[Docket No: CFPB-2015-0019]

Agency Information Collection Activities: Comment Request

AGENCY: Bureau of Consumer Financial Protection.

ACTION: Notice; extension of comment period.

SUMMARY: This notice corrects the docket number and extends the comment period in a notice published in the Federal Register on April 21, 2015, (80 FR 22168), notifying the public of a proposed new information collection titled “Consumer Complaint Intake System Company Portal Boarding Form Information Collection System,” in accordance with the Paperwork Reduction Act of 1995 (PRA). The document contained an incorrect docket number for submitting comments. The correct docket number is CFPB-2015-0019. The date for receiving comments has been extended accordingly.

DATES: The comment period for the notice titled Agency Information Collection Activities: Submission for OMB Review; Comment Request published April 21, 2015, at 80 FR 22168, is extended. Written comments are encouraged and must be received on or before June 8, 2015 to be assured of consideration.

ADDRESSES: You may submit comments, identified by the title of the information collection and docket number (see above), by any of the following methods:

• Electronic: http://www.regulations.gov. Follow the instructions for submitting comments.

• OMB: Office of Management and Budget, New Executive Office Building, Room 10235, Washington, DC 20503 or fax to (202) 395-5806. Mailed or faxed comments to OMB should be to the attention of the OMB Desk Officer for the Bureau of Consumer Financial Protection. Please note that comments submitted after the comment period will not be accepted. In general, all comments received will become public records, including any personal information provided. Sensitive personal information, such as account numbers or social security numbers, should not be included.

FOR FURTHER INFORMATION CONTACT: Requests for additional information should be directed to the Consumer Financial Protection Bureau, (Attention: PRA Office), 1700 G Street NW., Washington, DC 20552, (202) 435-9575, or email: PRA@cfpb.gov. Please do not submit comments to this email box.

Correction

In the Federal Register of April 21, 2015, in FR Doc. 80-22168, on page 22168, in the second column, correct the docket number to read [Docket No: CFPB-2015-0019].

Dated: April 29, 2015.
Ashwin Vasan,
Chief Information Officer, Bureau of Consumer Financial Protection.

[FR Doc. 2015-11015 Filed 5-6-15; 8:45 am]

BILLING CODE 4810-AM-P